DEPARTMENT OF ENERGY

Federal Energy Regulatory Commission

[Docket No. RP03-324-001]

Southern Star Central Gas Pipeline, Inc.; Notice of Tariff Filing

April 15, 2003.

Take notice that on April 10, 2003, Southern Star Central Gas Pipeline, Inc. (Southern Star Central) tendered for filing as part of its FERC Gas Tariff Original Volume No. 1, Substitute Original Sheet No. 6 through 9, containing system maps as required by 18 CFR 154.160 of the Commission's Regulations, to become effective April 30, 2003.

Southern Star Central states that this filing is a supplement to the filing it made on March 31, 2003 in Docket No. RP03-324-000 where Southern Star Central filed a complete new tariff under its new name. Southern Star Central states that the instant filing includes system maps that were not available in time for the March 31, 2003 filing. Southern Star Central has marked each tariff sheet found in Appendix A as “Non-Internet Public” in accordance with guidelines related to the Final Rule on Critical Energy Infrastructure (CEII). An April 30, 2003, effective date is requested in order to allow all tariff sheets in the FERC Gas Tariff, Original Volume No. 1 to go into effect concurrently with the tariff filed on March 31, 2003.

Southern Star Central further states that only copies of the transmittal letter excluding Appendix A are being mailed to Southern Star Central's jurisdictional customers and interested State commissions at this time.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 22, 2003.

Magalie R. Salas,
Secretary.

[FR Doc. 03-9817 Filed 4-21-03; 8:45 am]

BILLING CODE 6717-01-P